DEPARTMENT OF ENERGY

Federal Energy Regulatory Commission

[Project Nos. 2060-005, 2084-020, 2320-005, and 2330-007]

Erie Boulevard Hydropower, L.P.; Notice of Teleconference

January 18, 2002.

a. Date and Time of Meeting: January 24, 2002, 12 noon EST.

b. FERC Contact: Tom Dean at (202) 219-2778; thomas.dean@ferc.fed.us or John Costello at (202) 219-2914; john.costello@ferc.fed.us.

c. Purpose of the Teleconference: As follow-up to discussions during the January 18, 2002, teleconference regarding four projects on the Raquette River, the Federal Energy Regulatory Commission, the New York State Historic Preservation Office, and the Advisory Council on Historic Preservation intend to discuss agency concerns regarding consultation with the St. Regis Mohawk Tribe.

d. Proposed Agenda:

A. Introduction, Recognition of Participants, Teleconference Objectives

B. Discussion of PA, Appendices, and License Orders

C. Summary of meeting

D. Follow-up actions

E. Information regarding the teleconference including the toll free telephone number will be provided later.

Linwood A. Watson, Jr.,
Acting Secretary.

[FR Doc. 02-1831 Filed 1-24-02; 8:45 am]

BILLING CODE 6717-01-P